DEPARTMENT OF AGRICULTURE

Foreign Agricultural Service

Trade Adjustment Assistance for Farmers

AGENCY: Foreign Agricultural Service, USDA.

ACTION: Notice.

The Administrator, Foreign Agricultural Service (FAS), certified a petition for trade adjustment assistance (TAA) that was filed on December 4, 2003, by the Organized Seafood Association of Alabama, Inc., Bayou La Batre, Alabama. Shrimpers and shrimp farmers in Alabama are now eligible to apply for program benefits.

SUPPLEMENTARY INFORMATION: Upon investigation, the Administrator determined that increased imports of farmed shrimp contributed importantly to a decline in the landed prices of shrimp in Alabama by 20.5 percent during January 2002 through December 2002, when compared with the previous 5-year average.

Shrimpers and shrimp farmers certified as eligible for TAA may apply to the Farm Service Agency for benefits through April 12, 2004. After submitting completed applications, producers shall receive technical assistance provided by the Extension Service at no cost and an adjustment assistance payment, if certain program criteria are met.

Producers of raw agricultural commodities wishing to learn more about TAA and how they may apply should contact the Department of Agriculture at the addresses provided below for General Administration.

Producers Certified as Eligible for TAA, Contact: Farm Service Agency service centers in Alabama.

For General Information About TAA, Contact: Jean-Louis Pajot, Coordinator, Trade Adjustment Assistance for Farmers, FAS, USDA, (202) 720-2916, email: trade.adjustment@fas.usda.gov.

Dated: December 30, 2003.
A. Ellen Terpstra,
Administrator, Foreign Agricultural Service.

[FR Doc. 04-526 Filed 1-9-04; 8:45 am]

BILLING CODE 3410-10-M